ADVISORY COUNCIL ON HISTORIC PRESERVATION

Notice of Advisory Council on Historic Preservation Quarterly Business Meeting

AGENCY: Advisory Council on Historic Preservation.

ACTION: Notice of Advisory Council on Historic Preservation quarterly business meeting.

SUMMARY: Notice is hereby given that the Advisory Council on Historic Preservation (ACHP) will have its next quarterly meeting on Thursday, November 7, 2019. The meeting will be held in Room SR325 at the Russell Senate Office Building at Constitution and Delaware Avenues NE, Washington, DC, starting at 1:00 p.m.

DATES: The quarterly meeting will take place on Thursday, November 7, 2019 starting at 1:00 p.m.

ADDRESSES: The meeting will be held in Room SR325 at the Russell Senate Office Building at Constitution and Delaware Avenues NE, Washington, DC.

FOR FURTHER INFORMATION CONTACT: Tanya DeVonish, 202-517-0205, tdevonish@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into their decision making. For more information on the ACHP, please visit our website at www.achp.gov.

The agenda for the upcoming quarterly meeting of the ACHP is the following:

I. Chairman's Opening Remarks

II. Strategic Planning

III. ACHP Operating Procedures Amendments

IV. Section 106 Issues

i. Digital Information Task Force

ii. Program Alternatives

iii. Federal Historic Buildings Workgroup

iv. Update on Prior Section 106 Issues

V. Touching History Program

VI. U.S. Semiquincentennial

VII. Committee Reports

VIII.New Business

IX. Adjourn

The meetings of the ACHP are open to the public. If you need special accommodations due to a disability, please contact Tanya DeVonish, 202-517-0205 or tdevonish@achp.gov, at least seven (7) days prior to the meeting.

Authority: 54 U.S.C. 304102.

Dated: October 16, 2019.
Javier E. Marques,
General Counsel.

[FR Doc. 2019-23048 Filed 10-22-19; 8:45 am]

BILLING CODE 4310-K6-P